DEPARTMENT OF ENERGY

Federal Energy Regulatory Commission

Combined Notice of Filings #1

Take notice that the Commission received the following electric rate filings:

Docket Numbers: ER12-21-003.

Applicants: Agua Caliente Solar, LLC.

Description: Notice of Change in Status of Agua Caliente Solar, LLC.

Filed Date: 2/14/12.

Accession Number: 20120214-5156.

Comments Due: 5 p.m. ET 3/6/12.

Docket Numbers: ER12-351-002.

Applicants: Midwest Independent Transmission System Operator, Inc.

Description: 2-14-12 MRES Attachment MM compliance to be effective 1/1/2012.

Filed Date: 2/14/12.

Accession Number: 20120214-5126.

Comments Due: 5 p.m. ET 3/6/12.

Docket Numbers: ER12-458-002.

Applicants: Quantum Choctaw Power, LLC.

Description: Quantum Choctaw Power Compliance Filing to be effective 2/14/2012.

Filed Date: 2/14/12.

Accession Number: 20120214-5134.

Comments Due: 5 p.m. ET 3/6/12.

Docket Numbers: ER12-855-002.

Applicants: Nevada Power Company.

Description: Rate Schedule No. 95 Errata to Original filing to be effective 3/20/2012.

Filed Date: 2/14/12.

Accession Number: 20120214-5139.

Comments Due: 5 p.m. ET 2/28/12.

Docket Numbers: ER12-856-002.

Applicants: Nevada Power Company.

Description: Rate Schedule No. 96 Errata to Original Filing to be effective 3/20/2012.

Filed Date: 2/14/12.

Accession Number: 20120214-5138.

Comments Due: 5 p.m. ET 2/28/12.

Docket Numbers: ER12-1085-000.

Applicants: Florida Power & Light Company.

Description: FPL Compliance filing regarding the Offer of Settlement and Settlement Agreement to be effective 10/1/2011.

Filed Date: 2/14/12.

Accession Number: 20120214-5123.

Comments Due: 5 p.m. ET 3/6/12.

Docket Numbers: ER12-1086-000.

Applicants: New York Independent System Operator, Inc., Niagara Mohawk Power Corporation.

Description: 1829 SGIA NYISO & RG&E Browns Race Facility to be effective 1/27/2012.

Filed Date: 2/14/12.

Accession Number: 20120214-5132.

Comments Due: 5 p.m. ET 3/6/12.

Docket Numbers: ER12-1087-000.

Applicants: Discount Power, Inc.

Description: Market-Based Rate Baseline to be effective 2/15/2012.

Filed Date: 2/14/12.

Accession Number: 20120214-5133.

Comments Due: 5 p.m. ET 3/6/12.

Docket Numbers: ER12-1088-000.

Applicants: PJM Interconnection, L.L.C.

Description: PJM Original Service Agreement No. 3204; Queue No. W3-149 to be effective 1/20/2012.

Filed Date: 2/14/12.

Accession Number: 20120214-5136.

Comments Due: 5 p.m. ET 3/6/12.

Docket Numbers: ER12-1089-000.

Applicants: ITC Midwest LLC.

Description: ITC Midwest—Storm Lake Power Partners Notice of Succession Filing to be effective 4/16/2012.

Filed Date: 2/14/12.

Accession Number: 20120214-5137.

Comments Due: 5 p.m. ET 3/6/12.

Docket Numbers: ER12-1090-000.

Applicants: Liberty Power Maryland LLC.

Description: Market-Based Rate Tariff Baseline to be effective 2/14/2012.

Filed Date: 2/14/12.

Accession Number: 20120214-5140.

Comments Due: 5 p.m. ET 3/6/12.

Docket Numbers: ER12-1091-000.

Applicants: Liberty Power Holdings LLC.

Description: Market-Based Rate Tariff Baseline to be effective 2/14/2012.

Filed Date: 2/14/12.

Accession Number: 20120214-5141.

Comments Due: 5 p.m. ET 3/6/12.

Docket Numbers: ER12-1092-000.

Applicants: Liberty Power Delaware LLC.

Description: Market-Based Rate Tariff Baseline to be effective 2/14/2012.

Filed Date: 2/14/12.

Accession Number: 20120214-5142.

Comments Due: 5 p.m. ET 3/6/12.

Docket Numbers: ER12-1093-000.

Applicants: Liberty Power District of Columbia LLC.

Description: Market-Based Rate Tariff Baseline to be effective 2/14/2012.

Filed Date: 2/14/12.

Accession Number: 20120214-5143.

Comments Due: 5 p.m. ET 3/6/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 15, 2012.
Nathaniel J. Davis, Sr.,
Deputy Secretary.

[FR Doc. 2012-4186 Filed 2-22-12; 8:45 am]

BILLING CODE 6717-01-P